DEPARTMENT OF ENERGY

Federal Energy Regulatory Commission

[Docket No. IC14-7-000]

Commission Information Collection Activities (FERC-603); Comment Request

AGENCY: Federal Energy Regulatory Commission, DOE.

ACTION: Comment request.

SUMMARY: In compliance with the requirements of the Paperwork Reduction Act of 1995, 44 U.S.C. 3507(a)(1)(D), the Federal Energy Regulatory Commission (Commission or FERC) is submitting the information collection FERC-603, Critical Energy Infrastructure Information Request, to the Office of Management and Budget (OMB) for review of the information collection requirements. Any interested person may file comments directly with OMB and should address a copy of those comments to the Commission as explained below. The Commission issued a Notice in the Federal Register (79 FR 8181, 2/11/2014) requesting public comments. FERC received one comment in response to the notice and has addressed the comment below and in the supporting statement submitted to OMB.

DATES: Comments on the collection of information are due by June 9, 2014.

ADDRESSES: Comments filed with OMB, identified by the OMB Control No. 1902-0197, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. IC14-7-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Title: FERC-603, Critical Energy Infrastructure Information Request.

OMB Control No.: 1902-0197.

Type of Request: Three-year extension of the FERC-603 information collection requirements with no changes to the current reporting requirements.

Abstract: This collection is used by the Commission to implement procedures for gaining access to critical energy infrastructure information (CEII) that would not otherwise be available under the Freedom of Information Act (5 U.S.C. 552). On February, 21, 2003, the Commission issued Order No. 630 (66 FR 52917) to address the appropriate treatment of CEII in the aftermath of the September 11, 2001 terrorist attacks and to restrict unrestrained general access due to the ongoing terrorism threat. These steps enable the Commission to keep sensitive infrastructure information out of the public domain, decreasing the likelihood that such information could be used to plan or execute terrorist attacks. The process adopted in Order No. 630 is a more efficient alternative for handling requests for previously public documents than FOIA. The Commission has defined CEII to include information about “existing or proposed critical infrastructure that (i) relates to the production, generation, transportation, transmission, or distribution of energy; (ii) could be useful to a person planning an attack on critical infrastructure; (iii) is exempt from mandatory disclosure under the Freedom of Information Act, and (iv) does not simply give the location of the critical infrastructure. Critical infrastructure means existing and proposed systems and assets, whether physical or virtual, the incapacity or destruction of which would negatively affect security, economic security, public health or safety, or any combination of those matters. A person seeking access to CEII may file a request for that information by providing information about their identity and reason as to the need for the information. Through this process, the Commission is able to review the requester's need for the information against the sensitivity of the information. Compliance with these requirements is mandatory.

The CEII request form (hard copy and electronic version) and other materials are located at http://www.ferc.gov/legal/ceii-foia/ceii.asp.

Type of Respondents: Persons seeking access to CEII.

Estimate of Annual Burden: ¹ The Commission estimates the total Public Reporting Burden for this information collection as:

¹ The Commission defines burden as the total time, effort, or financial resources expended by persons to generate, maintain, retain, or disclose or provide information to or for a Federal agency. For further explanation of what is included in the information collection burden, reference 5 Code of Federal Regulations 1320.3.

FERC-603—Critical Energy Infrastructure Information Request
| Number of respondents | Number of responses per respondent | Total number of responses | Average burden hours per response | Estimated total annual burden
| (A) | (B) | (A) × (B) = (C) | (D) | (C) × (D)
Persons seeking access to CEII | 200 | 1 | 200 | 0.3 | 60

The total estimated annual cost burden per respondents is approximately $21 (0.3 hours * $70.50/hour ² = $21.15). The total estimated annual cost burden is $4,230 (60 hours * $70.50/hour = $4,230).

² $70.50/hour is the FERC staff average, including benefits. Staff assumes that respondents for this collection are in a similar wage category.

Comment received in response to initial notice: Southern Company Services, Inc. (SCS) submitted comments. SCS, as agent for Alabama Power Company, Georgia Power Company, Gulf Power Company, Mississippi Power Company, and Southern Power Company, serves the electricity needs of more than 4.4 million retail customers in the southeastern United States. SCS is a NERC-registered entity subject to the mandatory NERC reliability standards for generation and transmission owners and operators as well as other NERC-registered functions.

SCS states that it agrees with Acting Chairman LaFleur's recent statement on the publication of the Wall Street Journal article about Grid Security (March 12, 2014), as well as her call for a more clearly defined exemption under FOIA for CEII. SCS states that until such an exemption is legislatively created, one additional step the Commission should consider to protect CEII and other sensitive information would be to only collect such information when absolutely necessary. Instead, where appropriate, the Commission may consider alternatives such as on-site reviews, webinars, and other technological solutions that allow the Commission to view such information without having to possess the information in its records. Such steps may mitigate the chances that CEII and other sensitive information could end up in the wrong hands or be released to the public, thereby endangering the reliability of the electric grid.

SCS also states that the more steps the Commission can take to minimize inappropriate public access to CEII and other sensitive information, the less likely it is that such information can be used to harm the electric reliability of the grid, thereby imposing additional costs on generation and transmission owners and operators, and thus the ratepayer. By leveraging emerging technologies in ways that allow the Commission to view sensitive CEII and other information, without necessarily collecting or possessing it, the Commission should be able to fulfill its compliance and enforcement responsibilities while avoiding the risk of public disclosure of sensitive information under FOIA requests in ways that could harm or create risk to the reliability of the electric grid.

Response: The Commission is committed to ensuring security by pursuing the practices that SCS advocates. The Commission is conducting an ongoing assessment of how best to keep CEII secure while allowing those in the industry who need the information to access it.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: May 1, 2014.
Kimberly D. Bose,
Secretary.

[FR Doc. 2014-10611 Filed 5-8-14; 8:45 am]

BILLING CODE 6717-01-P